NATIONAL ARCHIVES AND RECORDS ADMINISTRATION

[NARA-2015-052]

Records Management; General Records Schedule (GRS); GRS Transmittal 24

AGENCY: National Archives and Records Administration (NARA).

ACTION: Notice of new General Records Schedule (GRS) Transmittal 24.

SUMMARY: NARA is issuing a new set of General Records Schedules (GRS) via GRS Transmittal 24. The GRS provides mandatory disposition instructions for administrative records common to several or all Federal agencies. Transmittal 24 announces changes we have made to the GRS since we published Transmittal 23 in September 2014. We are concurrently disseminating Transmittal 24 (the memo and the accompanying records schedules and documents) directly to each agency's records management official and have also posted it on NARA's Web site.

DATES: This transmittal is effective the date it publishes in the Federal Register.

ADDRESSES: You can find this transmittal on NARA's Web site at http://www.archives.gov/records-mgmt/grs/. You can download the complete current GRS, in PDF format, from NARA's Web site at http://www.archives.gov/records-mgmt/grs/index.html.

FOR FURTHER INFORMATION CONTACT: For more information about this notice or to obtain paper copies of the GRS, contact Kimberly Keravuori, External Policy Program Manager, at regulation_comments@nara.gov, or by telephone at 301.837.3151.

You may contact NARA's GRS Team (within Records Management Services in the National Records Management Program, Office of the Chief Records Officer) with general questions about the GRS at GRS_Team@nara.gov.

Your agency's records officer may contact the NARA appraiser or records analyst with whom your agency normally works for support in carrying out this transmittal and the revised portions of the GRS. We have posted a list of the appraisal and scheduling work group and regional contacts on our Web site at http://www.archives.gov/records-mgmt/appraisal/index.html.

SUPPLEMENTARY INFORMATION:

What is GRS Transmittal 24 and how do I use it?

GRS Transmittal 24 is the issuing memo for newly-revised portions of the General Records Schedule (GRS). We are completely rewriting the GRS over the course of a five-year project. We published the master plan for that project in 2013 under records management memo AC 02.2013 (http://www.archives.gov/records-mgmt/memos/ac02-2013.html). The plan has since morphed in some details but its major outlines remain solid. Transmittal 23 was the first installment of the new GRS; this Transmittal 24 is the second.

Transmittal 24 contains:

• Ten new schedules (five previously issued in GRS Transmittal 23, plus five new ones for a complete set of all revised portions of the GRS to date);

• ten schedule-specific FAQs and crosswalks from new to old schedules (one for each new schedule);

• old schedules annotated to show which items are still in effect and which are superseded by items in new schedules;

• an old-to-new crosswalk covering the entire old GRS;

• six FAQ documents (general; about the GRS update project; about the impact of the new GRS on agencies; about agency options for deviating from the GRS; about notification to NARA regarding using previously approved agency schedules in lieu of a new GRS; and about flexible dispositions attached to many new GRS items); and

• a checklist for implementing the new GRS, to assist agencies in completing all the actions this transmittal requires.

What changes has NARA made to the GRS with this transmittal?

GRS Transmittal 24 publishes five new schedules:

GRS 2.5 Employee Separation Records (DAA-GRS-2014-0004)

GRS 2.8 Employee Ethics Records (DAA-GRS-2014-0005)

GRS 4.1 Records Management Records (DAA-GRS-2013-0002)

GRS 4.2 Information Access and Protection Records (DAA-GRS-2013-0007; DAA-GRS-2015-0002)

GRS 6.2 Federal Advisory Committee Records (DAA-GRS-2015-0001)

These schedules replace portions of old GRS 1, 2, 14, 16, 18, 20, 21, 23, 24, 25, 26, and 27.

The most obvious changes are in format:

Schedule Numbers

Old GRS: Simple succession: 1, 2, 3, etc.

New GRS: Decimal: 1.1, 1.2, 1.3, etc.

Item Numbers

Old GRS: Alpha-numeric hierarchy, for instance 1a1, 1a2, 2a1a, 2a2b.

New GRS: Three digits, for instance 010, 020, 030. Closely related items sharing some description in common are numbered in immediate succession, such as 030, 031, 032, etc.

Layout

Old GRS: Narrative paragraphs. Read “down” to go from records description to disposition.

New GRS: Table. Read “across” to go from records description to records disposition.

Subject index

Old GRS: Index, last updated in 2008, is not thorough, and mainly useful to paper format.

New GRS: No index. Citations to new GRS items are not included in the current index, which will be phased out over time. Search for key words in pdf file instead.

Because we are phasing in the entire change from old to new GRS gradually over five years, the GRS during this interim period will necessarily include both old and new formats. New schedules (decimal numbers, table format) come first in the new transmittal, followed by the old schedules (“straight” numbers, narrative format) annotated to show which items are still current and which have been superseded by new schedules. With GRS Transmittal 24, we have superseded 37 percent of the old GRS by new schedules.

Which GRS items does GRS Transmittal 24 supersede?

New GRS items supersede many old GRS items. A few old items, however, have outlived their usefulness and cannot be cross-walked to new items. Therefore, we rescinded these items by GRS Transmittal 23. The FAQs for the new schedules to which rescinded items are most closely related provide explanations of why we rescinded the items.

GRS | Items | Title | FAQ in which discussed
2 | 9a | Record of employee leave, such as SF 1150, prepared upon transfer or separation | 2.5
14 | 11b | FOIA requests files: Official file copy of requested records | 4.2
14 | 12b | FOIA appeals files: Official file copy of requested records | 4.2
14 | 21b | Privacy Act requests files: Official file copy of requested records | 4.2
14 | 31b | Mandatory review for declassification requests files: Official file copy of requested records | 4.2
14 | 32b | Mandatory review for declassification appeals files: Official file copy of requested records | 4.2
16 | 4a | Records holdings files held by offices that prepare reports on agency-wide records holdings | 4.1
16 | 4b | Records holdings files held by other offices | 4.1
18 | 25b | Classified Information Nondisclosure Agreements maintained in OPFs | 4.2
26 | 2b2 | FACA web site design, management, and technical operation records | 6.2
26 | 3 | Committee Records Not Maintained by the Sponsor or Secretariat | 6.2

The old-to-new crosswalk shows rescinded items in context of their schedules.

How do I cite new GRS items?

When you send records to a Federal Records Center for storage, you should cite the records' legal authority—the “DAA” number—in the “Disposition Authority” column of the table. For informal purposes, please include schedule and item number. For example, “DAA-GRS-2013-0001-0004 (GRS 4.3, item 020).”

Do I have to take any action to implement these GRS changes?

NARA regulations (36 CFR 1226.12(a)) require agencies to disseminate GRS changes within six months of receipt.

Per 36 CFR 1227.12(a)(1), you must follow GRS dispositions that state they must be followed without exception.

Per 36 CFR 1227.12(a)(3), if you have an existing schedule that differs from a new GRS item that does not require being followed without exception, and you wish to continue using your agency-specific authority rather than the GRS authority, you must notify NARA within 120 days of the date of this transmittal.

If you do not have an already existing agency-specific authority but wish to apply a retention period that differs from that specified in the GRS, you must create a records schedule in the Electronic Records Archives and submit it to NARA for approval.

Dated: August 12, 2015.
David S. Ferriero,
Archivist of the United States.

[FR Doc. 2015-20363 Filed 8-17-15; 8:45 am]

BILLING CODE 7515-01-P